DEPARTMENT OF THE INTERIOR

Minerals Management Service (MMS)

Outer Continental Shelf (OCS) Official Protraction Diagrams (OPD)

AGENCY: Minerals Management Service, Interior.

ACTION: Availability of revised OCS OPD in the South Atlantic Planning Area.

SUMMARY: Notice is hereby given that effective with this publication, the following NAD 83-based OCS OPDs in the South Atlantic Planning Area last revised on the date indicated, are on file and available for information only in the Gulf of Mexico OCS Regional Office, New Orleans, Louisiana. In accordance with Title 43, Code of Federal Regulations, these diagrams are the basic record for the description of the OCS geographic areas they represent.

FOR FURTHER INFORMATION CONTACT: Copies of Leasing Maps and OPDs are $2.00 each. These may be purchased from the Public Information Unit, Information Services Section, Gulf of Mexico OCS Region, Minerals Mangement Service, 1201 Elmwood Park Boulevard, New Orleans, Louisiana 70123-2394, Telephone (504) 736-2519 or (800) 200-GULF.

SUPPLEMENTARY INFORMATION: Leasing Maps and OPDs may be obtained in two digital formats: .gra files for use in ARC/INFO and .pdf files for viewing and printing in Acrobat. Copies are also available for download at www.gomr.mms.gov/homepg/lsesale/mapdiag.html.

Description | Date
NH17-02 Brunswick | May 10, 2001.
NH17-05 Jacksonville | May 10, 2001.
NI17-11 Savannah | May 10, 2001.

Dated: March 15, 2002.
Thomas A. Readinger,
Associate Director for Offshore Minerals Management.

[FR Doc. 02-8847 Filed 4-11-02; 8:45 am]

BILLING CODE 4310-MR-P